DEPARTMENT OF ENERGY

Federal Energy Regulatory Commission

Combined Notice of Filings #2

Take notice that the Commission received the following electric rate filings:

Docket Numbers: ER10-2854-004.

Applicants: ConocoPhillips Company.

Description: Supplement to 10/22/2024 Notice of Change in Status of ConocoPhillips Company.

Filed Date: 6/13/25.

Accession Number: 20250613-5212.

Comment Date: 5 p.m. ET 7/7/25.

Docket Numbers: ER16-2044-004.

Applicants: Elk Hills Power, LLC.

Description: Supplement to 10/30/2024, Notice of Non-Material Change in Status of Elk Hills Power, LLC.

Filed Date: 6/20/25.

Accession Number: 20250620-5472.

Comment Date: 5 p.m. ET 7/11/25.

Docket Numbers: ER22-1482-002; ER23-1241-003; ER23-1517-002.

Applicants: IP Oberon II, LLC, IP Oberon, LLC, Blythe Mesa Solar II, LLC.

Description: Triennial Market Power Analysis for Southwest Region of Blythe Mesa Solar II, LLC, et al.

Filed Date: 6/20/25.

Accession Number: 20250620-5474.

Comment Date: 5 p.m. ET 7/11/25.

Docket Numbers: ER25-1794-001.

Applicants: Pacific Gas and Electric Company.

Description: Tariff Amendment: WDT: Order 898 Formula Rate Response to Deficiency Letter to be effective 1/1/2025.

Filed Date: 6/23/25.

Accession Number: 20250623-5001.

Comment Date: 5 p.m. ET 7/14/25.

Docket Numbers: ER25-1837-000.

Applicants: OSCII Gun Hill LLC.

Description: Response to 05/23/2025, Deficiency Letter of OSCII Gun Hill LLC.

Filed Date: 6/20/25.

Accession Number: 20250620-5475.

Comment Date: 5 p.m. ET 7/11/25.

Docket Numbers: ER25-2585-000.

Applicants: Ridgely Energy Farm, LLC.

Description: 205(d) Rate Filing: Revised Market-Based Rate Tariff to be effective 6/24/2025.

Filed Date: 6/23/25.

Accession Number: 20250623-5267.

Comment Date: 5 p.m. ET 7/14/25.

Docket Numbers: ER25-2586-000.

Applicants: Sierra Pinta Energy Storage, LLC.

Description: 205(d) Rate Filing: Revised Market-Based Rate Tariff to be effective 6/24/2025.

Filed Date: 6/23/25.

Accession Number: 20250623-5281.

Comment Date: 5 p.m. ET 7/14/25.

Docket Numbers: ER25-2587-000.

Applicants: Midcontinent Independent System Operator, Inc.

Description: 205(d) Rate Filing: 2025-06-23_SA 4499 Ameren Missouri-McCredie Overton MPFCA to be effective 8/23/2025.

Filed Date: 6/23/25.

Accession Number: 20250623-5300.

Comment Date: 5 p.m. ET 7/14/25.

Docket Numbers: ER25-2588-000.

Applicants: Mid-Atlantic Interstate Transmission, LLC.

Description: 205(d) Rate Filing: MAIT submits Amended IA, SA No. 4578 to be effective 8/25/2025.

Filed Date: 6/23/25.

Accession Number: 20250623-5305.

Comment Date: 5 p.m. ET 7/14/25.

Take notice that the Commission received the following electric securities filings:

Docket Numbers: ES25-51-000.

Applicants: Southwest Power Pool, Inc.

Description: Application Under Section 204 of the Federal Power Act for Authorization to Issue Securities of Southwest Power Pool, Inc.

Filed Date: 6/20/25.

Accession Number: 20250620-5471.

Comment Date: 5 p.m. ET 7/11/25.

The filings are accessible in the Commission's eLibrary system by clicking on the links or querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: June 23, 2025.
Carlos D. Clay,
Deputy Secretary.

[FR Doc. 2025-11771 Filed 6-25-25; 8:45 am]

BILLING CODE 6717-01-P